DEPARTMENT OF ENERGY

Federal Energy Regulatory Commission

Notice of Filings

Monday, May 23, 2005.

Take notice that the Commission received the following electric rate filings:

Docket Numbers: ER00-1026-011.

Applicants: Indianapolis Power & Light Company.

Description: Indianapolis Power & Light Co submits revised Wholesale Power Sales Tariff providing for sales of capacity & energy & resale of transmission rights.

Filed Date: 05/18/2005.

Accession Number: 20050519-0226.

Comment Date: 5 p.m. eastern time on Wednesday, June 8, 2005.

Docket Numbers: ER00-33-008.

Applicants: AES Placerita Inc.

Description: AES Placerita, Inc submits Fourth Revised Sheet 1 et al. to FERC Electric Tariff, Original Volume 1, in compliance with FERC's 4/18/05 Order accepting updated market power.

Filed Date: 05/18/2005.

Accession Number: 20050520-0190.

Comment Date: 5 p.m. eastern time on Wednesday, June 8, 2005.

Docket Numbers: ER01-2401-005.

Applicants: AES Red Oak LLC.

Description: AES Red Oak, LLC submits Revised Sheets 1 to FERC Electric Tariff, Original Volume 1, in compliance with FERC's order accepting updated market power analyses etc under ER01-2401.

Filed Date: 05/18/2005.

Accession Number: 20050520-0192.

Comment Date: 5 p.m. eastern time on Wednesday, June 8, 2005.

Docket Numbers: ER01-2401-006.

Applicants: AES Red Oak LLC.

Description: AES Red Oak LLC submits Revisions to FERC's Electric Tariff, Original Volume Nos. 1 and 2, pursuant to section 205 of the Federal Power Act and Section 35.13(a)(2) of FERC's Regulations.

Filed Date: 05/18/2005.

Accession Number: 20050520-0191.

Comment Date: 5 p.m. eastern time on Wednesday, June 8, 2005.

Docket Numbers: ER04-14-007.

Applicants: Detroit Edison Company.

Description: The Detroit Edison Co submits the clean and redlined copies of Revised Sheet 23, 26, 33 and 36 of the Ancillary Services Tariff under ER04-14.

Filed Date: 05/18/2005.

Accession Number: 20050519-0230.

Comment Date: 5 p.m. eastern time on Wednesday, June 8, 2005.

Docket Numbers: ER05-563-001.

Applicants: Westar Energy, Inc.

Description: Westar Energy, Inc amends the effective date of the 2/9/05 Notice of Cancellation to read March 31, 2005 under ER05-563.

Filed Date: 05/18/2005.

Accession Number: 20050519-0227.

Comment Date: 5 p.m. eastern time on Wednesday, June 8, 2005.

Docket Numbers: ER98-2184-010.

Applicants: AES Huntington Beach, L.L.C.

Description: AES Huntington Beach, LLC submits Third Revised Sheet 1 FERC Electric Tariff, Original Volume Nos. 1 and 2, pursuant to Section 205 of the Federal Power Act and Section 35.13(a)(2) of FERC's Regulations.

Filed Date: 05/18/2005.

Accession Number: 20050520-0195.

Comment Date: 5 p.m. eastern time on Wednesday, June 8, 2005.

Docket Numbers: ER98-2184-011.

Applicants: AES Huntington Beach, L.L.C.

Description: AES Huntington Beach, LLC submits revisions to FERC Electric Tariff, Original Volume Nos. 1 and 2, in compliance with FERC's order accepting updated market power analyses.

Filed Date: 05/18/2005.

Accession Number: 20050520-0194.

Comment Date: 5 p.m. eastern time on Wednesday, June 8, 2005.

Docket Numbers: ER98-2185-010.

Applicants: AES Alamitos, L.L.C.

Description: AES Huntington Beach, LLC submits Revisions to FERC Electric Tariff, Original Volume No. 1 and 2, pursuant to section 205 of the Federal Power Act and Section 35.13(a)(2) of FERC's Regulations.

Filed Date: 05/18/2005.

Accession Number: 20050520-0193.

Comment Date: 5 p.m. eastern time on Wednesday, June 8, 2005.

Docket Numbers: ER98-2185-011.

Applicants: AES Alamitos, L.L.C.

Description: AES Alamitos, LLC submits Revisions to AES Alamitos, LLC market-based rate tariff.

Filed Date: 05/18/2005.

Accession Number: 20050520-0201.

Comment Date: 5 p.m. eastern time on Wednesday, June 8, 2005.

Docket Numbers: ER98-2186-010.

Applicants: AES Redondo Beach, L.L.C.

Description: AES Redondo Beach, LLC submits Revisions to FERC Electric Tariff, Original Volume Nos. 1 and 2, pursuant to Section 205 of the Federal Power Act and Section 35.13(a)(2) of FERC's Regulations under ER98-2186.

Filed Date: 05/18/2005.

Accession Number: 20050520-0189.

Comment Date: 5 p.m. eastern time on Wednesday, June 8, 2005.

Docket Numbers: ER05-605-002; EL05-90-002.

Applicants: PJM Interconnection, L.L.C.

Description: PJM Interconnection, LLC submits revisions to the PJM Open Access Transmission Tariff to include language re an Interconnection Customer's agreement to conform to Internal Revenue Service requirements under ER05-605 et al.

Filed Date: 05/19/2005.

Accession Number: 20050523-0057.

Comment Date: 5 p.m. eastern time on Thursday, June 9, 2005.

Docket Numbers: ER05629-001.

Applicants: New York Independent System Operator.

Description: New York Independent System Operator & the New York Transmission Owners submit the pro forma Large Facility Interconnection Procedures & Large Interconnection Agreement.

Filed Date: 05/19/2005.

Accession Number: 20050523-0062.

Comment Date: 5 p.m. eastern time on Thursday, June 9, 2005.

Docket Numbers: ER05-639-001.

Applicants: Brascan Power Piney & Deep Creek LLC.

Description: Brascan Power Piney & Deep Creek LLC. submits application for market-based rate authorization under ER05-639.

Filed Date: 05/19/2005.

Accession Number: 20050523-0061.

Comment Date: 5 p.m. eastern time on Thursday, June 9, 2005.

Docket Numbers: ER03-683-009.

Applicants: California Independent System Operator Corporation.

Description: California Independent System Operator Corporation submits the Refund Report.

Filed Date: 05/18/2005.

Accession Number: 20050523-0010.

Comment Date: 5 p.m. eastern time on Wednesday, June 8, 2005.

Docket Numbers: ER05-980-000.

Applicants: American Transmission Systems, Inc.

Description: American Transmission Systems, Inc submits a construction agreement to establish a new 138kV delivery point with Buckeye Power, Inc.

Filed Date: 05/19/2005.

Accession Number: 20050520-0289.

Comment Date: 5 p.m. eastern time on Thursday, June 9, 2005.

Docket Numbers: ER05-981-000.

Applicants: Pocono Energy Services, LLC.

Description: Petition of Pocono Energy Services, LLC for acceptance of initial rate schedule, waivers and blanket authority.

Filed Date: 05/18/2005.

Accession Number: 20050520-0288.

Comment Date: 5 p.m. eastern time on Wednesday, June 8, 2005.

Docket Numbers: ER05-982-000.

Applicants: Prime Power Sales I., L.L.C.

Description: Application of Prime Power Sales I, LLC for order accepting rate schedule and granting certain blanket authorizations and waivers under ER05-982.

Filed Date: 05/18/2005.

Accession Number: 20050520-0287.

Comment Date: 5 p.m. eastern time on Wednesday, June 8, 2005.

Docket Numbers: ER05-983-000.

Applicants: Southern California Edison Co.

Description: Southern California Edison Co submits its revised rate sheets to the Interconnection Facilities Agreement with Ridgewood Olinda, LLC.

Filed Date: 05/19/2005.

Accession Number: 20050520-0314.

Comment Date: 5 p.m. eastern time on Thursday, June 9, 2005.

Docket Numbers: ER05-984-000.

Applicants: Niagara Mohawk Power Corporation.

Description: Niagara Mohawk Power Corp submits Original Service Agreement 339 under NYISO's OATT.

Filed Date: 05/19/2005.

Accession Number: 20050520-0313.

Comment Date: 5 p.m. eastern time on Thursday, June 9, 2005.

Docket Numbers: ER05-985-000.

Applicants: Trans Bay Cable LLC.

Description: Trans Bay Cable LLC submits the Operating Memorandum dated 5/16/05 with City of Pittsburg, CA.

Filed Date: 05/19/2005.

Accession Number: 20050520-0290.

Comment Date: 5 p.m. eastern time on Thursday, June 9, 2005.

Docket Numbers: ER05-986-000.

Applicants: Southern California Edison Company.

Description: Southern California Edison Co submits a Notice of Cancellation of the Amended and Restated Power Exchange Agreement with Tucson Electric Power Co.

Filed Date: 05/19/2005.

Accession Number: 20050520-0308.

Comment Date: 5 p.m. eastern time on Thursday, June 9, 2005.

Docket Numbers: ER05-987-000.

Applicants: Niagara Mohawk Power Corporation.

Description: Niagara Mohawk Power Corp submits an Original Service Agreement 338 with South Glens Falls Energy, LLC.

Filed Date: 05/19/2005.

Accession Number: 20050520-0309.

Comment Date: 5 p.m. eastern time on Thursday, June 9, 2005.

Docket Numbers: ER05-988-000.

Applicants: Nevada Power Co.

Description: Nevada Power Co submits an executed TransmissionService Agreement with PacifiCorp.

Filed Date: 05/19/2005.

Accession Number: 20050520-0315.

Comment Date: 5 p.m. eastern time on Thursday, June 9, 2005.

Docket Numbers: ER05-989-000.

Applicants: Kansas City Power & Light Company.

Description: Kansas City Power & Light Co submits an Amendatory Agreement 4, dated 5/9/05 with the City of Garnett, Kansas under ER05-989.

Filed Date: 05/19/2005.

Accession Number: 20050520-0318.

Comment Date: 5 p.m. eastern time on Thursday, June 9, 2005.

Docket Numbers: ER05-990-000.

Applicants: Southwest Power Pool.

Description: Southwest Power Pool, Inc submits revised pages to its Open Access Transmission Tariff intended to implement a rate change for Westar Energy, Inc.

Filed Date: 05/19/2005.

Accession Number: 20050523-0058.

Comment Date: 5 p.m. eastern time on Thursday, June 9, 2005.

Docket Numbers: ER05-991-000.

Applicants: Commonwealth Chesapeake Company, LLC.

Description: Commonwealth Chesapeake Co LLC notifies FERC of certain changes in the characteristics relied upon to grant market based rate authority to Commonwealth Chesapeake Company, LLC.

Filed Date: 05/19/2005.

Accession Number: 20050523-0054.

Comment Date: 5 p.m. eastern time on Thursday, June 9, 2005.

Docket Numbers: ER05-992-000.

Applicants: Duke Energy Corporation.

Description: Duke Energy Corp, on behalf of Duke Power submits its proposed revisions to its Rate Schedule 10-A and Amendment 2 to the Settlement Agreement with the City of Concord, NC et al. under ER05-992.

Filed Date: 05/19/2005.

Accession Number: 20050523-0055.

Comment Date: 5 p.m. eastern time on Thursday, June 9, 2005.

Docket Numbers: ER02-2458-003.

Applicants: Midwest Independent Transmission System Operator.

Description: Second Amendment to settlement agreement & notice regarding status of Wolverine Power Supply Cooperative, Inc's request for rehearing.

Filed Date: 05/17/2005.

Accession Number: 20050520-0198.

Comment Date: 5 p.m. eastern time on Tuesday, June 7, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the web site that enables subscribers to receive e-mail notification when a document is added to a subscribed dockets(s). For assistance with any FERC Online service, please e-mail FERCOnlinSupport@ferc.gov or call (866) 208-3676 (toll free). For TTY, call (202) 502-8659.

Linda Mitry,
Deputy Secretary.

[FR Doc. E5-2716 Filed 5-27-05; 8:45 am]

BILLING CODE 6717-01-P